DEPARTMENT OF THE INTERIOR

National Park Service

[4502-4025-720]

Boundary Revision of Valley Forge National Historical Park

AGENCY: National Park Service, Interior.

ACTION: Announcement of boundary revision.

SUMMARY: This notice announces the revision to the boundary of Valley Forge National Historical Park, pursuant to the authority specified below, to include adjacent and contiguous parcels of land in Montgomery County, Pennsylvania, totaling 0.73 of an acre. These parcels are depicted on Legislative Boundary Map Number 464/108056, entitled “Valley Forge National Historical Park Proposed Boundary Expansion, Montgomery County, Pennsylvania,” dated June 27, 2011. This map is on file and available for inspection at the following locations: National Park Service, Land Resources, Northeast Region, 200 Chestnut Street, Room 324, Philadelphia, PA 19106, and National Park Service, Department of the Interior, Washington, DC 20240.

SUPPLEMENTARY INFORMATION: The Act of July 4, 1976 (Pub. L. 94-337, 90 Stat. 796) provides that, after notifying the House Committee on Natural Resources and the Senate Committee on Energy and Natural Resources, the Secretary of the Interior may make minor revisions of the boundaries of the park when necessary by publication of a revised map or other boundary description in the Federal Register. The Committees have been notified as required. This action will add parcels of land containing a total of 0.73 of an acre to Valley Forge National Historical Park. The National Park Service proposes to acquire these parcels by donation from the individual tract owners, who have consented to the acquisition.

DATES: The effective date of this boundary revision is April 19, 2012.

FOR FURTHER INFORMATION CONTACT: Superintendent, Valley Forge National Historical Park, 1400 North Outer Line Drive, King Prussia, PA 19406, (610) 783-1037.

Dated: March 22, 2012.
Dennis R. Reidenbach,
Regional Director, Northeast Region.

[FR Doc. 2012-9263 Filed 4-18-12; 8:45 am]

BILLING CODE 4310-DJ-P